GENERAL SERVICES ADMINISTRATION

[Notice-PBS-2018-09; Docket No. 2018-0002; Sequence No. 25]

Notice of Intent To Prepare an Environmental Assessment for the Edward J. Schwartz Federal Building Structural Enhancements Project

AGENCY: Public Building Service (PBS), General Services Administration (GSA).

ACTION: Notice of intent.

SUMMARY: Pursuant to the requirements of the National Environmental Policy Act of 1969 (NEPA), the Council on Environmental Quality Regulations, and the GSA PBS NEPA Desk Guide, GSA is issuing this notice to advise the public that an Environmental Assessment (EA) will be prepared for the Edward J. Schwartz Federal Building Structural Enhancements Project (Project).

DATES: Agencies and the public are encouraged to provide written comments regarding the scope of the EA. Comments must be received by October 19, 2018.

ADDRESSES: Please submit written comments by either of the following methods:

• Email: osmahn.kadri@gsa.gov.

• Postal Mail/Commercial Delivery: ATTN: Osmahn Kadri, 50 United Nations Plaza, Room 3345, Mailbox 9, San Francisco, CA 94102.

FOR FURTHER INFORMATION CONTACT: Osmahn A. Kadri, Regional Environmental Quality Advisor/NEPA Project Manager, General Services Administration, Pacific Rim Region, at 415-522-3617 or email osmahn.kadri@gsa.gov.

SUPPLEMENTARY INFORMATION: GSA intends to prepare an EA to analyze the potential impacts resulting from proposed structural enhancements associated with the Edward J. Schwartz Federal Building Structural Enhancements Project.

Background

The Project is located at 880 Front Street in San Diego, California at the Edward J. Schwartz Federal Building and United States Courthouse. The Project is proposed in order to improve structural safety for the public traveling underneath the building and for the tenants occupying the building above the Front Street underpass. The existing building has five stories of federal office building space spanning above the roadway and two levels of parking structure beneath the roadway.

Alternatives Under Consideration

The EA will consider one Action Alternative and one No Action Alternative. The Action Alternative would consist of structural enhancement improvements to the portion of the existing Edward J. Schwartz Federal Building over Front Street between E and F streets. Existing columns and beams supporting the building at the Front Street underpass would be reinforced with new steel beams and column support structures and pre-cast concrete paneling. Construction would require full and partial closure of Front Street between Broadway and F Street. Street closure options during construction of the Action Alternative are being considered, and a comprehensive Traffic Control Plan will be prepared to address the street closure.

The No Action Alternative assumes that structural enhancements to the existing building would not occur.

Scoping Process

Scoping will be accomplished through direct mail correspondence to appropriate federal, state, and local agencies; surrounding property owners; and private organizations and citizens who have previously expressed or are known to have an interest in the Project.

The primary purpose of the scoping process is for the public to assist GSA in determining the scope and content of the environmental analysis.

Dated: September 10, 2018.
Matthew Jear,
Director, Portfolio Management Division, Pacific Rim Region, Public Buildings Service.

[FR Doc. 2018-20165 Filed 9-14-18; 8:45 am]

BILLING CODE 6820-YF-P